DEPARTMENT OF HEALTH AND HUMAN SERVICES

Centers for Medicare & Medicaid Services

[Document Identifier: CMS-R-74, CMS-R-107, CMS-2786U, CMS-R-285 and CMS-R-245]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Income and Eligibility Verification System; Use: This collection is necessary to verify income and eligibility requirements for Medicaid beneficiaries, as required by Section 1137 of the Social Security Act. Form Number: CMS-R-74 (OMB# 0938-0467); Frequency: Monthly; Affected Public: State, Local or Tribal Governments; Number of Respondents: 54; Total Annual Responses: 54; Total Annual Hours: 124,054.

2. Type of Information Collection Request: Extension of a currently approved collection; Title of Information Collection: Medicaid-Determining Third Party Liability (TPL) State Plan Preprint and Supporting Regulations in 42 CFR 433.138; Use: The information collected from Medicaid applicants and beneficiaries as well as from State and local agencies is necessary to determine the legal liability of third parties to pay for medical services in lieu of Medicaid payment. Form Number: CMS-R-107 (OMB# 0938-0502); Frequency: On occasion; Affected Public: Individuals or households and State, Local or Tribal Government; Number of Respondents: 2,900,000; Total Annual Responses: 2,900,000; Total Annual Hours: 510,968.

3. Type of Information Collection Request: Revision of a currently approved collection; Title of Information Collection: Fire Safety Survey Reports; Use: The Life Safety Code (LSC) is a compilation of fire safety requirements for new and existing buildings and is updated and published every 3 years by the National Fire Protection Association (NFPA), a private, non-profit organization dedicated to reducing loss of life due to fire. The Medicare regulations have historically incorporated by reference these requirements along with Secretarial waiver authority. The statutory basis for incorporating NFPA's LSC for our providers is under the Secretary's general rulemaking authority at Sections 1102 and 1871 of the Social Security Act. These forms are used by the State Agencies to record data collected to determine compliance with standards specified in 416.44(b) for ambulatory surgical centers (ASCs), and 494.60(e) for End-Stage Renal Disease (ESRD) facilities. The Medicare Health Insurance Program is authorized by Title XVIII of the Social Security Act. The CMS-2786U form is being revised to include ESRD information. Form Number: 2786U (OMB# 0938-0242); Frequency: Weekly; Affected Public: Individuals or households and State, Local or Tribal Government; Number of Respondents: 54; Total Annual Responses: 2442; Total Annual Hours: 4884.

4. Type of Information Collection Request: Extension of a currently approved collection; Title of Information Collection: Request For Retirement Benefit Information; Use: Section 1818 of the Social Security Act provides that former State and local government employees who are age 65 or older, that have been entitled to Premium Part A for at least 7 years, and did not have the premium paid for by a State or a political subdivision of a State, may have the Part A premium reduced to zero. This collection will assist in determining whether individuals currently paying a monthly premium for Medicare Part A coverage are eligible to have their premium reduced to zero. Form Number: CMS-R-285 (OMB# 0938-0769); Frequency: Monthly; Affected Public: State, Local or Tribal Governments; Number of Respondents: 1,500; Total Annual Responses: 1,500; Total Annual Hours: 375.

5. Type of Information Collection Request: Revision of a currently approved collection; Title of Information Collection: Medicare and Medicaid Programs OASIS Collection Requirements as Part of the CoPs for HHAs and Supporting Regulations in 42 CFR, Sections 484.55, 484.205, 484.245, 484.250; Use: The Centers for Medicare and Medicaid Services is requesting OMB approval to modify the Outcome and Assessment Information Set (OASIS) data set that home health agencies (HHAs) are required to collect in order to participate in the Medicare program. Proposed revisions to the OASIS data set include: (1) Issues raised by stakeholders, including removing items that are not currently used by CMS for payment or quality, adding items to address clinical domains not currently covered, and modifying item wording or response categories for selected items; and (2) the addition of process items that support measurement of evidence-based practices. Proposed revisions to OASIS items address issues raised by stakeholders, including removing items that are not currently used by CMS for payment or quality, adding items to address clinical domains not currently covered, and modifying item wording or response categories for selected items. These changes and item deletions are and considered to be high priority by CMS and have implications for outcome measurement, risk adjustment of outcome reports, case mix adjustment for prospective payment, data submission procedures and specifications, reporting systems, and provider paperwork burden.

In addition, adopting measures of efficient and high-quality care is central to the direction that CMS would like to take in its Quality Initiative. In concordance with long-standing federal objectives, CMS ultimately plans to create a standard patient assessment instrument that can be used across all post-acute care settings. The revision of the OASIS instrument is an opportunity to consider various components of quality care and how patients might be better served as they (and information about them and their care) move among health care settings. For this reason, the OASIS C includes process items that support measurement of evidence-based practices across the post-acute care spectrum that have been shown to prevent exacerbation of serious conditions, can improve care received by individual patients, and can provide guidance to agencies on how to improve care and avoid adverse events. Form Number: CMS-R-245 (OMB# 0938-0760); Frequency: Occasionally; Affected Public: Business or other for-profit and not-for-profit institutions; Number of Respondents: 10,170; Total Annual Responses: 14,960,070; Total Annual Hours: 15,590,610.

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by January 13, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number____, Room C4-26-05, 7500 Security Boulevard, Baltimore, Maryland 21244-1850.

Dated: November 6, 2008.
Michelle Shortt,
Director, Regulations Development Group, Office of Strategic Operations and Regulatory Affairs.

[FR Doc. E8-27060 Filed 11-13-08; 8:45 am]

BILLING CODE 4120-01-P